OFFICE OF MANAGEMENT AND BUDGET

Proposed Information Collection Activities; Request For Comments

AGENCY: Office of Management and Budget.

ACTION: Notice.

SUMMARY: In accordance with the Paperwork Reduction Act (44 U.S.C. 3501 et seq.), the Office of Management and Budget (OMB) invites the general public and Federal agencies to comment on the renewal without change of three (3) standard forms, the SF-270, Request for Advance or Reimbursement; the SF-271, Outlay Report and Request for Reimbursement for Construction Programs; and the SF-LLL, Disclosure of Lobbying Activities. These forms are required by OMB Circulars A-102, “Grants and Cooperative Agreements with State and Local Governments,” and A-110, “Uniform Administrative Requirements for Grants and Agreements with Institutions of Higher Education, Hospitals, and Other Non-Profit Organizations.”

DATES: Comments must be submitted on or before June 2, 2003. Late comments will be considered to the extent practicable.

ADDRESSES: Comments should be mailed to Garrett Hatch, Office of Federal Financial Management, Office of Management and Budget, 725 17th Street, NW., Room 6025, Washington, DC 20503. Electronic mail (E-mail) comments may be submitted to ghatch@omb.eop.gov. Please include the full body of the comments in the text of the message and not as an attachment. Please include the name, title, organization, postal address, and E-mail address in the text of the message. Due to problems receiving postal mail, mailed comments may not be received in a timely manner.

FOR FURTHER INFORMATION CONTACT: Garrett Hatch, Office of Federal Financial Management, Office of Management and Budget, (202) 395-3993. The standard forms can be downloaded from the OMB Grants Management Home page (http://www.whitehouse.gov/WH/EOP/OMB/Grants).

OMB Control No.: 0348-0004.

Title: Request for Advance or Reimbursement.

Form No: SF-270.

Type of Review: Extension of a currently approved collection.

Respondents: States, Local Governments, Non-Profit organizations.

Number of Responses: 100,000.

Estimated Time Per Response: 60 minutes.

Needs and Uses: The SF-270 is used to request funds for all nonconstruction grant programs when letters of credit or predetermined advance methods are not used. The Federal awarding agencies and OMB use information reported on this form for general management of Federal assistance awards programs.

OMB Control No.: 0348-0002.

Title: Outlay and Request for Reimbursement for Construction Programs.

Form No: SF-271.

Type of Review: Extension of a currently approved collection.

Respondents: States, Local Governments, Non-Profit organizations.

Number of Responses: 40,000.

Estimated Time Per Response: 60 minutes.

Needs and Uses: The SF-271 is used to request reimbursement for all construction grant programs. The Federal awarding agencies and OMB use information reported on this form for general management of Federal assistance awards programs.

OMB Control No.: 0348-0046.

Title: Disclosure of Lobbying Activities.

Form No: SF-LLL.

Type of Review: Extension of a currently approved collection.

Respondents: States, Local Governments, Non-Profit organizations, Individuals, Businesses.

Number of Responses: 300.

Estimated Time Per Response: 10 minutes.

Needs and Uses: The SF-LLL is the standard disclosure form for lobbying paid for with non-Federal funds, as required by the Byrd Amendment, as amended by the Lobbying Disclosure Act of 1995.

Office of Management and Budget.
Joseph L. Kull,
Deputy Controller.

[FR Doc. 03-7718 Filed 3-31-03; 8:45 am]

BILLING CODE 3110-01-P